GENERAL SERVICES ADMINISTRATION

41 CFR Part 302-11

[FTR Amendment 102]

RIN 3090-AH55

Federal Travel Regulation; Relocation Income Tax (RIT) Allowance Tax Tables

AGENCY: Office of Governmentwide Policy, GSA.

ACTION: Final rule.

SUMMARY: The Federal, State, and Puerto Rico tax tables for calculating the relocation income tax (RIT) allowance must be updated yearly to reflect changes in Federal, State, and Puerto Rico income tax brackets and rates. The Federal, State, and Puerto Rico tax tables contained in this rule are for calculating the 2002 RIT allowance to be paid to relocating Federal employees.

DATES: This final rule is effective January 1, 2002, and applies for RIT allowance payments made on or after January 1, 2002.

FOR FURTHER INFORMATION CONTACT: Calvin L. Pittman, Office of Governmentwide Policy, Travel Management Policy (MTT), Washington, DC 20405, telephone (202) 501-1538.

SUPPLEMENTARY INFORMATION: This amendment provides the tax tables necessary to compute the relocation income tax (RIT) allowance for employees who are taxed in 2002 on moving expense reimbursements.

A. Background

Section 5724b of Title 5, United States Code, provides for reimbursement of substantially all Federal, State, and local income taxes incurred by a transferred Federal employee on taxable moving expense reimbursements. Policies and procedures for the calculation and payment of a RIT allowance are contained in the Federal Travel Regulation (41 CFR part 302-11). The Federal, State, and Puerto Rico tax tables for calculating RIT allowance payments are updated yearly to reflect changes in Federal, State, and Puerto Rico income tax brackets and rates.

B. Executive Order 12866

The General Services Administration (GSA) has determined that this final rule is not a significant regulatory action for the purposes of Executive Order 12866 of September 30, 1993.

C. Regulatory Flexibility Act

This final rule is not required to be published in the Federal Register for notice and comment; therefore, the Regulatory Flexibility Act, 5 U.S.C. 601 et seq., does not apply.

D. Paperwork Reduction Act

The Paperwork Reduction Act does not apply because this final rule does not impose recordkeeping or information collection requirements, or the collection of information from offerors, contractors, or members of the public which require the approval of the Office of Management and Budget under 44 U.S.C. 3501 et seq.

E. Small Business Regulatory Enforcement Fairness Act

This final rule is also exempt from Congressional review prescribed under 5 U.S.C. 801 since it relates solely to agency management and personnel.

List of Subjects in 41 CFR Part 302-11

Government employees, Income taxes, Relocation allowances and entitlements, Transfers, Travel and transportation expenses.

For the reasons set forth in the preamble, 41 CFR part 302-11 is amended as follows:

PART 302—RELOCATION INCOME TAX (RIT) ALLOWANCE

1. The authority citation for 41 CFR part 302-11 continues to read as follows:

Authority: 5 U.S.C. 5738; 20 U.S.C. 905(a); E.O. 11609, 36 FR 13747, 3 CFR, 1971-1975 Comp., p. 586.

2. Appendixes A, B, C, and D to part 302-11 currently in effect are amended by adding the following tables at the end of each appendix, respectively, to read as follows:

Appendix A to Part 302-11—Federal Tax Tables for RIT Allowance

* * * * *

Federal Marginal Tax Rates by Earned Income Level and Filing Status—Tax Year 2001

The following table is to be used to determine the Federal marginal tax rate for Year 1 for computation of the RIT allowance as prescribed in § 302-11.8(e)(1). The following table is to be used for employees whose Year 1 occurred during calendar year 2001:

Marginal Tax Rate: Percent | Single Taxpayer: Over | Single Taxpayer: But Not Over | Heads of Household: Over | Heads of Household: But Not Over | Married Filing Jointly/Qualifying Widows & Widowers: Over | Married Filing Jointly/Qualifying Widows & Widowers: But Not Over | Married Filing Separately: Over | Married Filing Separately: But Not Over
15 | $7,582 | $35,363 | $13,905 | $51,016 | $18,061 | $65,011 | $8,742 | $32,028
28 | 35,363 | 77,472 | 51,016 | 116,612 | 65,011 | 133,818 | 32,028 | 65,470
31 | 77,472 | 154,524 | 116,612 | 180,660 | 133,818 | 193,566 | 65,470 | 99,363
36 | 154,524 | 317,548 | 180,660 | 324,522 | 193,566 | 323,455 | 99,363 | 169,100
39.6 | 317,548 |  | 324,522 |  | 323,455 |  | 169,100 |

Appendix B to Part 302-11—State Tax Tables for RIT Allowance

* * * * *

State Marginal Tax Rates by Earned Income Level—Tax Year 2001

The following table is to be used to determine the State marginal tax rates for calculation of the RIT allowance as prescribed in § 301-11.8(e)(2). The following table is to be used for employees who received covered taxable reimbursements during calendar year 2001:

Marginal tax rates (stated in percents) for the earned income amounts specified in each column.\1-2\: State (or District) | Marginal tax rates (stated in percents) for the earned income amounts specified in each column.\1-2\: $20,000-$24,999 | Marginal tax rates (stated in percents) for the earned income amounts specified in each column.\1-2\: $25,000-$49,999 | Marginal tax rates (stated in percents) for the earned income amounts specified in each column.\1-2\: $50,000-$74,999 | Marginal tax rates (stated in percents) for the earned income amounts specified in each column.\1-2\: $75,000 & Over
Alabama | 5 | 5 | 5 | 5
Alaska | 0 | 0 | 0 | 0
Arizona | 2.87 | 3.2 | 3.74 | 5.04
Arkansas | 4.5 | 7 | 7 | 7
If single status ³ | 6 | 7 | 7 | 7
California | 2 | 4 | 8 | 9.3
If single status ⁴ | 4 | 8 | 8 | 9.3
Colorado | 4.63 | 4.63 | 4.63 | 4.63
Connecticut | 4.5 | 4.5 | 4.5 | 4.5
Delaware | 5.2 | 5.55 | 5.95 | 5.95
District of Columbia | 7.5 | 9.5 | 9.5 | 9.5
Florida | 0 | 0 | 0 | 0
Georgia | 6 | 6 | 6 | 6
Hawaii | 6.9 | 7.9 | 8.5 | 8.5
If single status ³ | 7.9 | 8.5 | 8.5 | 8.5
Idaho | 7.4 | 7.8 | 7.8 | 7.8
Illinois | 3 | 3 | 3 | 3
Indiana | 3.4 | 3.4 | 3.4 | 3.4
Iowa | 6.48 | 7.92 | 8.98 | 8.98
If single status ³ | 6.8 | 7.92 | 8.98 | 8.98
Kansas | 3.5 | 6.25 | 6.25 | 6.45
If single status ³ | 6.25 | 6.45 | 6.45 | 6.45
Kentucky | 6 | 6 | 6 | 6
Louisiana | 2 | 4 | 4 | 6
If single status ³ | 4 | 4 | 6 | 6
Maine | 4.5 | 7 | 8.5 | 8.5
If single status ³ | 7 | 8.5 | 8.5 | 8.5
Maryland | 4.8 | 4.8 | 4.8 | 4.8
Massachusetts | 5.85 | 5.85 | 5.85 | 5.85
Michigan | 4.2 | 4.2 | 4.2 | 4.2
Minnesota | 5.36 | 7.05 | 7.05 | 7.85
If single status ³ | 7.05 | 7.05 | 7.05 | 7.85
Mississippi | 5 | 5 | 5 | 5
Missouri | 6 | 6 | 6 | 6
Montana | 9 | 10 | 11 | 11
Nebraska | 3.49 | 5.01 | 6.68 | 6.68
If single status ³ | 5.01 | 6.68 | 6.68 | 6.68
Nevada | 0 | 0 | 0 | 0
New Hampshire | 0 | 0 | 0 | 0
New Jersey | 1.4 | 1.75 | 2.45 | 6.37
If single status ³ | 1.4 | 3.5 | 5.525 | 6.37
New Mexico | 3.2 | 6 | 7.1 | 8.2
If single status ³ | 6 | 7.1 | 7.9 | 8.2
New York | 4 | 5.25 | 6.85 | 6.85
If single status ³ | 5.25 | 6.85 | 6.85 | 6.85
North Carolina | 6 | 7 | 7 | 7.75
North Dakota | 6.67 | 9.33 | 12 | 12
If single status ³ | 8 | 10.67 | 12 | 12
Ohio | 3.715 | 4.457 | 5.201 | 6.9
Oklahoma | 5 | 6.75 | 6.75 | 6.75
If single status ³ | 6.75 | 6.75 | 6.75 | 6.75
Oregon | 9 | 9 | 9 | 9
Pennsylvania | 2.8 | 2.8 | 2.8 | 2.8
Rhode Island ⁴ | 25.5 | 25.5 | 25.5 | 25.5
South Carolina | 7 | 7 | 7 | 7
South Dakota | 0 | 0 | 0 | 0
Tennessee | 0 | 0 | 0 | 0
Texas | 0 | 0 | 0 | 0
Utah | 7 | 7 | 7 | 7
Vermont ⁵ | 24 | 24 | 24 | 24
Virginia | 5 | 5.75 | 5.75 | 5.75
Washington | 0 | 0 | 0 | 0
West Virginia | 4 | 4.5 | 6 | 6.5
Wisconsin | 6.5 | 6.75 | 6.75 | 6.75
Wyoming | 0 | 0 | 0 | 0
¹ Earned income amounts that fall between the income brackets shown in this table (e.g., $24,999.45, $49,999.75) should be rounded to the nearest dollar to determine the marginal tax rate to be used in calculating the RIT allowance.
² If the earned income amount is less than the lowest income bracket shown in this table, the employing agency shall establish an appropriate marginal tax rate as provided in § 302-11.8(e)(2)(ii).
³ This rate applies only to those individuals certifying that they will file under a single status within the States where they will pay income taxes. All other taxpayers, regardless of filing status, will use the other rate shown.
⁴ The income tax rate for Rhode Island is 25.5 percent of Federal income tax liability for all employees. Rates shown as a percent of Federal income tax liability must be converted to a percent of income as provided in § 302-11.8(e)(2)(iii).
⁵ The income tax rate for Vermont is 24 percent of Federal income tax liability for all employees. Rates shown as a percent of Federal income tax liability must be converted to a percent of income as provided in § 302-11.8(e)(2)(iii).

Appendix C to Part 302-11—Federal Tax Tables for RIT Allowance—Year 2

* * * * *

Federal Marginal Tax Rates by Earned Income Level and Filing Status—Tax Year 2002

The following table is to be used to determine the Federal marginal tax rate for Year 2 for computation of the RIT allowance as prescribed in § 302-11.8(e)(1). The following table is to be used for employees whose Year 1 occurred during calendar years 1992, 1993, 1994, 1995, 1996, 1997, 1998, 1999, 2000 or 2001:

Marginal tax rate Percent | Single Taxpayer: Over | Single Taxpayer: But not over | Heads of Household: Over | Heads of Household: But not over | Married Filing Jointly/Qualifying Widows & Widowers: Over | Married Filing Jointly/Qualifying Widows & Widowers: But not over | Married filing separately: Over | Married filing separately: But not over
10 | $8,137 | $14,130 | $14,743 | $24,811 | $20,219 | $31,833 | $11,770 | $16,693
15 | 14,130 | 37,040 | 24,811 | 53,556 | 31,833 | 67,914 | 16,693 | 33,839
27 | 37,040 | 80,140 | 53,556 | 118,624 | 67,914 | 139,528 | 33,839 | 69,420
30 | 80,140 | 158,281 | 118,624 | 184,826 | 139,528 | 201,236 | 69,420 | 105,672
35 | 158,281 | 326,339 | 184,826 | 337,037 | 201,236 | 335,297 | 105,672 | 178,317
38.6 | 326,339 |  | 337,037 |  | 335,297 |  | 178,317 |

Appendix D to Part 302-11—Puerto Rico Tax Tables for RIT Allowance

* * * * *

Puerto Rico Marginal Tax Rates by Earned Income Level—Tax Year 2001

The following table is to be used to determine the Puerto Rico marginal tax rate for computation of the RIT allowance as prescribed in § 302-11.8(e)(4)(i):

Marginal Tax Rate Percent | Single Filing Status: Over | Single Filing Status: But Not Over | Any Other Filing Status: Over | Any Other Filing Status: But Not Over
11 |  |  |  | $25,000
16.5 |  | $25,000 |  |
29.5 | $25,000 | 50,000 | $25,000 | 50,000
33 | 50,000 |  | 50,000 |

Dated: January 25, 2002.
Stephen A. Perry,
Administrator of General Services.

[FR Doc. 02-2431 Filed 1-31-02; 8:45 am]

BILLING CODE 6820-34-P